ENVIRONMENTAL PROTECTION AGENCY

40 CFR Part 52

[EPA-R04-OAR-2009-0226; FRL-9971-12-Region 4]

Air Plan Approval; GA: Emission Reduction Credits

AGENCY: Environmental Protection Agency (EPA).

ACTION: Withdrawal of direct final rule.

SUMMARY: Due to the receipt of an adverse comment, the Environmental Protection Agency (EPA) is withdrawing the September 25, 2017, direct final rule that would have approved changes to the Georgia State Implementation Plan (SIP) to revise the Emission Reduction Credits (ERC) regulation. EPA will address the comment in a separate final action based upon the proposed rulemaking action, also published on September 25, 2017. EPA will not institute a second comment period on this action.

DATES: The direct final rule published at 82 FR 44519, on September 25, 2017, is withdrawn, effective November 22, 2017.

FOR FURTHER INFORMATION CONTACT: Sean Lakeman, Air Regulatory Management Section, Air Planning and Implementation Branch, Air, Pesticides and Toxics Management Division, U.S. Environmental Protection Agency, Region 4, 61 Forsyth Street SW., Atlanta, Georgia 30303-8960. Mr. Lakeman can be reached via telephone at (404) 562-9043 or via electronic mail at lakeman.sean@epa.gov.

SUPPLEMENTARY INFORMATION: On September 25, 2017 (82 FR 44519), EPA published a direct final rule approving a SIP revision submitted by the State of Georgia to revise the State's ERCs regulation. EPA took direct final action to approve portions of the September 15, 2008, submission that expands the eligibility for sources in Barrow County that can participate in the ERC Program, adds a provision for reevaluation of the Certificates of ERC, changes the administrative fees, and eliminates an exemption for certain types of ERCs.

In the direct final rule, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rule would be effective generally 30 days after the close of the public comment period, without further notice unless the Agency received adverse comment by the close of the public comment period. EPA explained that if the Agency received such comments, then EPA would publish a document withdrawing the final rule and informing the public that the rule would not take effect. It was also explained that all public comments received would then be addressed in a subsequent final rule based on the proposed rule, and that EPA would not institute a second comment period on this action.

EPA received adverse comments from a single Commenter on the direct final rule concerning how revisions are recorded in the CFR. EPA will address the comments in a separate final action based on the proposed action also published on September 25, 2017 (82 FR 44543). EPA will not open a second comment period for this action.

List of Subjects in 40 CFR Part 52

Environmental protection, Air pollution control, Carbon monoxide, Incorporation by reference, Lead, Nitrogen dioxide, Ozone, Particulate matter, Sulfur oxides, Volatile organic compounds.

Dated: November 9, 2017.
Onis “Trey” Glenn, III,
Regional Administrator, Region 4.

Accordingly, the amendment to 40 CFR 52.570(c) published on September 25, 2017 (82 FR 44519), are withdrawn effective November 22, 2017.

[FR Doc. 2017-25193 Filed 11-21-17; 8:45 am]

BILLING CODE 6560-50-P